DEPARTMENT OF ENERGY

Federal Energy Regulatory Commission

[Project No. 4515-010 and -014]

E.R. Jacobson; Notice of Availability of Final Environmental Assessment

October 4, 2001.

In accordance with the National Environmental Policy Act of 1969 and the Federal Energy Regulatory Commission's (Commission) regulations, 18 CFR part 380 (Order No. 486, 52 FR 47897), the Office of Energy Projects staff has reviewed the application for an amendment of license for the Jacobson Hydro No. 1 Project (FERC No. 4515-010 and -014). A final environmental assessment (FEA) is available for public review. The FEA was attached to an Order Amending License and Lifting Stay (96 FERC ¶ 61,298) issued and distributed by the Commission on September 13, 2001. The project is located on the Colorado River near the town of Palisade, Mesa County, Colorado. The FEA finds that approval of the application would not constitute a major federal action significantly affecting the quality of the human environment.

The FEA was written by staff in the Office of Energy Projects, Federal Energy Regulatory Commission. Copies of the FEA are available for review in the Commission's Public Reference Branch, Room 2A, 888 First Street, NE., Washington, DC 20426 or by calling (202) 208-1371. Copies of this filing are on file with the Commission and are available for public inspection. The FEA may also be viewed on the Web at http://www.ferc.gov using the “RIMS” link, select “Docket#” and follow the instructions (call 202-208-2222 for assistance).

David P. Boergers,
Secretary.

[FR Doc. 01-25498 Filed 10-10-01; 8:45 am]

BILLING CODE 6717-01-P